DEPARTMENT OF ENERGY

Federal Energy Regulatory Commission

Notice of Request To Use Alternative Procedures in Preparing a License Application

July 22, 2003.

Take notice that the following request to use alternative procedures to prepare a license application has been filed with the Commission.

a. Type of Application: Request to use alternative procedures to prepare a license application.

b. Docket No.: DI02-3-002.

c. Date filed: July 10, 2003.

d. Applicant: AquaEnergy Group, Ltd.

e. Name of Project: Makah Bay Wave Energy Pilot Project

f. Location: The project would be located in Makah Bay, about 1.9 nautical miles offshore of Waatch Point in Clallam County, Washington. The offshore portion of the project would occupy waters of the Olympic Coast National Marine Sanctuary, and shore-based facilities would be on tribal lands within the Makah Indian Reservation.

g. Filed Pursuant to: Federal Power Act, 16 U.S.C. 791(a)—825(r).

h. Applicant Contact: Mary Jane Parks, P.O. Box 1276, Mercer Island, Washington 98040-1276; (626) 568-0798.

i. FERC Contact: Nick Jayjack at (202) 502-6073; e-mail Nicholas.Jayjack@ferc.gov.

j. Deadline for Comments: 30 days from the date of this notice.

All documents (original and eight copies) should be filed with: Magalie R. Salas, Secretary, Federal Energy Regulatory Commission, 888 First Street, NE., Washington, DC 20426. Comments may be filed electronically via the Internet in lieu of paper. The Commission strongly encourages electronic filings. See 18 CFR 385.2001(a)(1)(iii) and the instructions on the Commission's Web site ( http://www.ferc.gov ) under the “e-Filing” link.

k. The project would include four floating buoys, tethered to concrete blocks located on the ocean floor; hoses for carrying pressurized sea water; a power conversion facility located on the sea floor, where the water from the hoses would be converted to electrical energy and from alternating current to direct current; submarine electrical cables running from the conversion facility to shore and under the beach through a conduit; and a power station housing equipment for connecting the power generated by the project to an existing 12-kilovolt distribution line. Power generated by the project, expected to be about 1,500 megawatt-hours annually, would be purchased by the Clallam County Public Utility District, and used within its service territory.

l. A copy of the request to use the alternative procedures is available for review at the Commission in the Public Reference Room or may be viewed on the Commission's Web site at http://www.ferc.gov using the “FERRIS” link. Enter the docket number (DI02-3) in the docket number field to access the document. For assistance, contact FERC Online Support at FERCOnlineSupport@ferc.gov or toll-free at 1-866-208-3676, or for TTY, (202) 502-8659. A copy is also available for inspection and reproduction at the address in item h above.

You may also register online at http://www.ferc.gov /esubscribenow.htm to be notified via e-mail of new filings and issuances related to this or other pending projects. For assistance, contact FERC Online Support.

m. AquaEnergy Group, Ltd. (AquaEnergy) has demonstrated that it has made an effort to contact all federal and state resources agencies, non-governmental organizations (NGO), and others affected by the project. AquaEnergy has also demonstrated that a consensus exists that the use of alternative procedures is appropriate in this case. AquaEnergy has submitted a communications protocol that is supported by the stakeholders.

The purpose of this notice is to invite any additional comments on the request to use the alternative procedures, pursuant to section 4.34(i) of the Commission's regulations. Additional notices seeking comments on the specific project proposal, interventions and protests, and recommended terms and conditions will be issued at a later date. AquaEnergy will complete and file a preliminary Environmental Assessment, in lieu of Exhibit E of the license application.

This differs from the traditional process, in which an applicant consults with agencies, Indian tribes, NGOs, and other parties during preparation of the license application and before filing the application, but the Commission staff performs the environmental review after the application is filed. The alternative procedures are intended to simplify and expedite the licensing process by combining the pre-filing consultation and environmental review processes into a single process, to facilitate greater participation, and to improve communication and cooperation among the participants.

AquaEnergy has met with Federal and State resources agencies, the U.S. Coast Guard, the Makah Tribal Council, and the public regarding the proposed project. It is expected that AquaEnergy will file 6-month progress reports during the alternative procedures process leading to the filing of a license application.

Magalie R. Salas,
Secretary.

[FR Doc. 03-19230 Filed 7-28-03; 8:45 am]

BILLING CODE 6717-01-P